ENVIRONMENTAL PROTECTION AGENCY

[FRL-8499-9; Docket ID No. EPA-HQ-ORD-2007-0971]

An Exploratory Study: Assessment of Modeled Dioxin Exposure in Ceramic Art Studios

AGENCY: Environmental Protection Agency (EPA).

ACTION: Notice of Peer-Review Workshop.

SUMMARY: The U.S. Environmental Protection Agency (EPA) is announcing an external peer-review workshop to review the external review draft document titled, “An Exploratory Study: Assessment of Modeled Dioxin Exposure in Ceramic Art Studios” (EPA/600/R-06/044A). The draft document was prepared by the National Center for Environmental Assessment (NCEA) within EPA's Office of Research and Development. The purpose of this report is to describe an exploratory investigation of potential dioxin exposures to artists/hobbyists who use ball clay to make pottery and related products. Dermal, inhalation and ingestion exposures to clay were measured at the ceramics art department of Ohio State University in Columbus, OH. Estimates of exposure were made based on measured levels of clay in the studio air, deposited on surrogate food samples and on the skin of artists. EPA is releasing this draft document solely for the purpose of pre-dissemination peer review under applicable information quality guidelines. This document has not been formally disseminated by EPA. It does not represent and should not be construed to represent any Agency policy or determination.

On October 4, 2007, EPA announced a 45-day public comment period on the draft document (72 FR 56756). The public comment period has closed as of November 19, 2007. The public comment period and the external peer-review panel workshop are separate processes that provide opportunities for all interested parties to comment on the document. All public comments submitted have been forwarded to EPA's contractor, Eastern Research Group, Inc. (ERG), and provided to the external peer-review panel members prior to the workshop for consideration during discussions at the workshop.

In preparing a final report, EPA will consider the public comments submitted to EPA’s docket during the public comment period, and the comments and, recommendations from the external peer-review workshop, including any oral public comments made at the workshop.

DATES: The peer-review panel workshop will begin on Wednesday, January 16, 2008, at approximately 9 a.m. and end at 5 p.m. Members of the public may attend the peer-review panel workshop. Time will be set aside on the morning of January 16, 2008 for registered attendees who wish to make brief oral comments (for more information refer to the instructions for registration below).

ADDRESSES: Eastern Research Group (ERG), an EPA contractor for external scientific review, will convene an independent panel of experts and organize and conduct the peer-review workshop to review this draft document. The peer-review workshop will be held at the Navy League Building, 2300 Wilson Boulevard, Arlington, Virginia 22201.

Observers may attend the peer-review workshop through a registration process by calling ERG’s conference line between the hours of 9 a.m. and 5:30 p.m. EST at (781) 674-7374 or toll free at (800) 803-2833, or by faxing a registration request to (781) 674-2906 (please reference the “Dioxin/Cermics Peer-Review Panel Workshop” and include full address and contact information) or by sending an e-mail to Meetings@erg.com (Subject line: Dioxin/Ceramics Peer-Review Panel Workshop; Body: include full address and contact information). Pre-registration is strongly recommended as space is limited, and registration will be accepted on a first-come, first-served basis. The deadline for pre-registration is Monday, January 7, 2008. If space allows, registrations will continue to be accepted after this date, including on-site registration. Time will be set aside to hear comments from observers, and individuals will be limited to a maximum of five minutes during the morning of the day of the workshop. When you register, please inform ERG that you wish to make comments during the comment period.

The draft document, “An Exploratory Study: Assessment of Modeled Dioxin Exposure in Ceramic Art Studios,” is available primarily via the Internet on the National Center for Environmental Assessment(s home page under the Recent Additions and the Data and Publications menus at http://www.epa.gov/ncea. A limited number of paper copies are available from the NCEA Information Management Team; telephone: 202-564-3261; facsimile: 202-565-0050.

If you are requesting a paper copy, please provide your name, mailing address, and the document title, “An Exploratory Study: Assessment of Modeled Dioxin Exposure in Ceramic Art Studios”. Copies are not available from ERG and copies will not be available at the workshop.

FOR FURTHER INFORMATION CONTACT: Questions regarding information, registration, and logistics for the external peer-review workshop should be directed to Eastern Research Group, 110 Hartwell Avenue, Lexington, MA 02421-3136; telephone: (781) 674-7374 or toll free at (800) 803-2833; facsimile: (781) 674-2906; e-mail: Meetings@erg.com.

If you need technical information about the document, please contact John Schaum, National Center for Environmental Assessment (NCEA); telephone: 202-564-3237; facsimile: 202-565-0078; e-mail schaum.john@epa.gov.

Dated: November 21, 2007.
Peter W. Preuss,
Director, National Center for Environmental Assessment.

[FR Doc. E7-23158 Filed 11-28-07; 8:45 am]

BILLING CODE 6560-50-P